DEPARTMENT OF VETERANS AFFAIRS

[OMB Control No. 2900-0718]

Proposed Information Collection Activity Comment Request: Yellow Ribbon Agreement

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of currently approved collection, and allow 60 days for public comment in response to the notice. This notice solicits comments for information needed to determine which institutions of higher learning (IHLs) will be participating in the Yellow Ribbon G. I. Education Enhancement Program (Under Title 38 U.S.C. Chapter 33), the maximum number of individuals for whom the IHL will make contributions in any given academic year, and the maximum amount of contributions that may be provided on behalf of participating individuals during the academic year.

DATES: Written comments and recommendations on the proposed collection of information should be received on or before May 14, 2012.

ADDRESSES: Submit written comments on the collection of information through the Federal Docket Management System (FDMS) at www.Regulations.gov; or to Nancy J. Kessinger, Veterans Benefits Administration (20M35), Department of Veterans Affairs, 810 Vermont Avenue NW., Washington, DC 20420 or email nancy.kessinger@va.gov. Please refer to “OMB Control No. 2900-0718” in any correspondence. During the comment period, comments may be viewed online through FDMS.

FOR FURTHER INFORMATION CONTACT: Nancy J. Kessinger at (202) 461-9769 or FAX (202) 275-5947.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Yellow Ribbon Agreement (Under Title 38 U.S.C. Chapter 33), VA Form 22-0839.

OMB Control Number: 2900-0718.

Type of Review: Extension of a currently approved collection.

Abstract: Title 38 U.S.C. 3317 requires VA to enter into an agreement with schools wishing to participate in Yellow Ribbon Program. The agreement must state the beginning and ending dates of the academic year for which the school will provide contributions under the Yellow Ribbon Program, the maximum number of individuals for whom the school will make contributions in the specified academic year, and the maximum amount of contributions that may be provided on behalf of participating individuals during the academic year. VA is required to match each dollar provided by the school not to exceed 50 percent of the outstanding established charges. The statute further requires that VA post the information on a Web site for public viewing. VA will accept requests for participation, modifications, and withdrawals of Yellow Ribbon Program agreements during the open season enrollment period (March 15th through May 15th each calendar year) for the upcoming academic year and all future academic years unless changes are requested by VA or the institution.

Affected Public: Business or other for profit and Not for profit institutions.

Estimated Annual Burden: 256 hours.

Estimated Average Burden per Respondent: 10 minutes.

Frequency of Response: One time per year.

Estimated Number of Respondents: 1,538.

Dated: March 8, 2012.
By direction of the Secretary.
Denise McLamb,
Program Analyst, Enterprise Records Service.

[FR Doc. 2012-6096 Filed 3-13-12; 8:45 am]

BILLING CODE 8320-01-P